DEPARTMENT OF HEALTH AND HUMAN SERVICES

Indian Health Service

Office of Tribal Self-Governance; Negotiation Cooperative Agreement; Correction of Due Date

AGENCY: Indian Health Service, HHS.

ACTION: Notice; Correction of due date.

SUMMARY: The Indian Health Service published a notice in the Federal Register (FR) on April 17, 2018, for the Negotiation Cooperative Agreement, Funding Announcement Number: HHS-2018-IHS-TSGN-0001. The Application Due Date has been modified.

FOR FURTHER INFORMATION CONTACT: Paul Gettys, Grant Systems Coordinator, 5600 Fishers Lane, Mail Stop: 09E70, Rockville, MD 20857, Phone: (301) 443-2114; or the Division of Grants Management main line (301) 443-5204, or Fax: (301)-594-0899.

Correction

In the FR notice of April 17, 2018, (FR 2018-07941), the correction is:

Key Dates:

Under the heading Key Dates, the Application Due Date should read as:

• Application Due Date: June 18, 2018

The other dates in the Key Dates section remain as originally published.

Dated: April 27, 2018.
Michael D. Weahkee,
RADM, Assistant Surgeon General, U.S. Public Health Service, Acting Director, Indian Health Service.

[FR Doc. 2018-09506 Filed 5-3-18; 8:45 am]

BILLING CODE 4160-16-P